DEPARTMENT OF ENERGY

Federal Energy Regulatory Commission

[Docket No. EF03-2011-001, et al.]

United States Department of Energy, et al.; Electric Rate and Corporate Filings

March 8, 2004.

The following filings have been made with the Commission. The filings are listed in ascending order within each docket classification.

1. U.S. Department of Energy Bonneville Power Administration

[Docket No. EF03-2011-001]

Take notice that on March 2, 2004, the Bonneville Power Administration (BPA) tendered for filing an amendment to its July 29, 2003, filing of a proposed Safety-Net Cost Recovery Adjustment Clause under the 2002 General Rate Schedule Provisions pursuant to section 7(a)(2) of the Pacific Northwest Electric Power Planning and Conversation Act, 16 U.S.C. 839e(a)(2).

Comment Date: March 23, 2004.

2. Central Hudson Gas & Electric Corp.

[Docket No. ER97-2872-004]

Take notice that on March 4, 2004, Central Hudson Gas & Electric Corporation (Central Hudson) tendered for filing (1) an updated market power analysis in compliance with the Commission's Order in Docket No. ER97-2872-000 granting Central Hudson market-based rate authority, and (2) an amendment to its market-based rate tariff to adopt the Commission's new Market Behavior Rules issued in Docket No. EL01-118.

Comment Date: March 25, 2004.

3. Michigan Electric Transmission Company, LLC

[Docket No. ER02-320-007]

Take notice that on March 3, 2004, Michigan Electric Transmission Company, LLC (METC), in compliance with the terms of the Commission's orders of February 13, 2002, and March 29, 2002, in Docket Nos. EC02-23-000, et al., submitted a request to extend the deferral mechanisms and rate moratorium previously approved by the Commission.

METC states that copies of this filing have been served upon all transmission customers within the METC pricing zone within the Midwest Independent Transmission System Operator, Inc. and on the Michigan Public Service Commission.

Comment Date: March 24, 2004.

4. New York Independent System Operator, Inc.

[Docket No. ER03-647-005]

Take notice that on February 26, 2004, New York Independent System Operator, Inc. (NYISO) in compliance with the Commission's May 20, 2003, Order in Docket No. ER03-647-000 submitted a Report on Status of Regional Adequacy Markets Working Group.

Comment Date: March 18, 2004.

5. ISO New England, Inc.

[Docket No. ER04-23-004]

Take notice that on February 27, 2004, ISO New England Inc. (ISO) filed an informational filing submitting notification that one of the generating units covered by the Amended Reliability Agreement between the ISO and Devon Power LLC (Devon) is no longer need for reliability purposes and stating that the ISO will terminate the Amended Reliability Agreement with respect to one of Devon's units.

ISO states that copies of the filing have been served upon all parties to the proceedings.

Comment Date: March 24, 2004.

6. PSI Energy, Inc.

[Docket No. ER04-90-001]

Take notice that on March 3, 2004, PSI Energy, Inc. (PSI), submitted a compliance filing pursuant to the letter order issued December 1, 2003, in Docket No. ER04-90-000.

PSI states that a copy of this is being served on Hoosier Energy Rural Electric Cooperative, Inc., Southern Indiana Gas and Electric Company and the Indiana Utility Regulatory Commission.

Comment Date: March 24, 2004.

7. New York Independent System Operator, Inc.

[Docket No. ER04-294-001]

Take notice that on March 3, 2004, the New York Independent System Operator, Inc. (NYISO) tendered for filing a compliance filing in connection with the Commission's February 2, 2004, order in Docket No. ER04-294-000.

The NYISO states that it has served a copy of this filing to all parties listed on the official service list maintained by the Secretary of the Commission in these proceedings. The NYISO also states that it has also served a copy of this filing to all parties that have executed Service Agreements under the NYISO's Open-Access Transmission Tariff or Services Tariff, the New York State Public Service Commission and to the electric utility regulatory agencies in New Jersey and Pennsylvania.

Comment Date: March 24, 2004.

8. Commonwealth Edison Company

[Docket No. ER04-393-001]

Take notice that on March 2, 2004, Commonwealth Edison Company (ComEd) tendered for filing additional information with respect to interconnection agreements between ComEd and Zilkha Renewable Energy Midwest I, LLC, and between ComEd and Zilkha Renewable Energy Midwest VI, LLC filed with the Commission on January 12, 2004.

Comment Date: March 23, 2004.

9. Orion Power Midwest, LP

[Docket No. ER04-500-001]

Take notice that on March 3, 2004, Orion Power MidWest, LP filed its Rate Schedule No. 1 to comply with the letter order of the Commission in Docket No. ER04-500-000 issued February 25, 2004.

Comment Date: March 24, 2004.

10. Vermont Electric Cooperative, Inc.

[Docket No. ER04-519-001]

Take notice that on March 3, 2004, Vermont Electric Cooperative, Inc. (VEC) tendered for filing an amendment to its initial rate filing in Docket No. ER04-519-000, and designated its amendment as proposed First Revised Rate Schedule FERC No. 10.

VEC states that each of the customers under the rate schedule, Citizens, the Vermont Public Service Board, and the Vermont Department of Public Service were mailed copies of the filing.

Comment Date: March 24, 2004.

11. Onondaga Cogeneration Limited Partnership

[Docket No. ER04-546-001]

Take notice that on March 4, 2004, Onondaga Cogeneration Limited Partnership (Onondaga), pursuant to a request from Commission staff, submitted for filing a Substitute Original Sheet No. 2 to its market-based rate tariff deleting a reference to sales of black start capacity into the market administered by the New York Independent System Operator.

Comment Date: March 25, 2004.

12. California Independent System Operator Corporation

[Docket No. ER04-609-000]

Take notice that on March 2, 2004, the California Independent System Operator Corporation (ISO) tendered for filing a revision to the ISO Tariff, Amendment No. 58, for acceptance by the Commission. The ISO states that the purpose of Amendment No. 58 is to (1) clarify the application of the Tolerance Band during Waiver Denial Periods; (2) define Constrained Output Generation; (3) clarify the implementation of Uninstructed Deviation Penalties to dynamically scheduled System Resources; and (4) provide for consistent treatment of unit data for Reliability Must-Run and market transactions. The ISO is requesting that the amendment be made effective on the later of May 1, 2004, or when the Phase 1-B modifications are put into service.

The ISO states that this filing has been served on the Public Utilities Commission, the California Energy Commission, the California Electricity Oversight Board, parties in Docket No. ER03-1046, and parties with effective Scheduling Coordinator Agreements under the ISO Tariff.

Comment Date: March 23, 2004.

13. Kentucky Utilities Company

[Docket No. ER04-610-000]

Take notice that on March 2, 2004, Kentucky Utilities Company (KU) submitted for filing, pursuant to section 205 of the Federal Power Act and part 35 of the Commission's regulations, an amendment to a Service Agreement between KU and City of Nicholasville, Kentucky, for the addition of a new metering point, Substation No. 8, for wholesale power service.

KU states that a copy of this filing has been served upon the City of Nicholasville, Kentucky.

Comment Date: March 23, 2004.

14. BP West Coast Products LLC—Wilmington Calciner

[Docket No. ER04-611-000]

Take notice that on March 2, 2004, BP West Coast Products LLC—Wilmington Calciner submitted a Notice of Change of Legal Name changing ARCO CQC Kiln, Inc., to BP West Coast Products LLC—Wilmington Calciner effective January 1, 2002.

Comment Date: March 23, 2004.

15. PPL Electric Utilities Corporation

[Docket No. ER04-612-000]

Take notice that on March 3, 2004, PPL Electric Utilities Corporation (PPL Electric) filed an Interconnection Agreement between PPL Electric and the Borough of Ephrata, Pennsylvania. PPL Electric request an effective date of February 1, 2004.

PPL Electric states that it has served a copy of this filing on the Borough of Ephrata.

Comment Date: March 24, 2004.

16. PPL Electric Utilities Corporation

[Docket No. ER04-613-000]

Take notice that on March 3, 2004, PPL Electric Utilities Corporation (PPL Electric) filed an Interconnection Agreement between PPL Electric and the Borough of Perkasie, Pennsylvania. PPL Electric requests an effective date of February 1, 2004.

PPL Electric states that it has served a copy of this filing on the Borough of Perkasie.

Comment Date: March 24, 2004.

17. PJM Interconnection, LLC

[Docket No. ER04-614-000]

Take notice that on March 3, 2004, PJM Interconnection, LLC (PJM), submitted for filing an executed interconnection service agreement (ISA) among PJM, Conectiv Atlantic Generation, LLC, and Atlantic City Electric Company d/b/a Conectiv Power Delivery. PJM requests a waiver of the Commission's 60-day notice requirement to permit a February 29, 2004, effective date for the ISA.

PJM states that copies of this filing were served upon the parties to the agreements and the state regulatory commissions within the PJM region.

Comment Date: March 24, 2004.

18. New York Independent System Operator, Inc.

[Docket No. ER04-615-000]

Take notice that on March 3, 2004, the New York Independent System Operator, Inc. (NYISO), filed modifications to recently-approved provisions contained in its December 12, 2003, filing, in which the NYISO proposed to revise its Open Access Transmission Tariff (OATT) and Market Administration and Control Area Services Tariff (Services Tariff) to reduce the magnitude of congestion rent shortfalls. NYISO states that the proposed modifications will change the OATT and Services Tariff to include the appropriate Point of Injection and Point of Withdrawal for two sets of Existing Transmission Capacity for Native Load (ETCNL) listed in both Table 2 of Attachment M of the OATT and Table 1 of part IV of Attachment B of the Services Tariff. The NYISO has requested that the modifications become effective on February 2, 2004, the date that the provisions in the December 12, 2003, filing became effective.

The NYISO states that it has served a copy of this filing upon all parties that have executed Service Agreements under the NYISO's OATT or Services Tariff, the New York State Public Service Commission, and the electric utility regulatory agencies in New Jersey and Pennsylvania.

Comment Date: March 24, 2004.

19. Black River Generation, LLC

[Docket No. ER04-617-000]

Take notice that on March 4, 2004, Black River Generation, LLC filed with the Commission an application pursuant to section 205 of the Federal Power and part 35 of the Commission's regulations for authorization to sell energy, capacity, and ancillary services wholesale at market-based rates.

Comment Date: March 25, 2004.

20. American Transmission Systems, Incorporated

[Docket No. ER04-618-000]

Take notice that on March 4, 2004, American Transmission Systems, Incorporated (ATSI) tendered for filing a proposed Schedule 2—Reactive Supply and Voltage Control from Generation Sources Service under its Open Access Transmission Tariff, ATSI FERC Electric Tariff, Third Revised Volume No. 1 and a new Schedule 2.1—Revenue Requirement for Reactive Power.

ATSI states that the proposed Schedule 2 and 2.1 are intended to allow collection of revenues associated with the supply of Reactive Supply Service within the FirstEnergy Control Area by multiple generation suppliers and the distribution of all revenues collected in a fair and equitable manner. ATSI has proposed to make the revisions effective on May 1, 2004.

Comment Date: March 25, 2004.

21. Virginia Electric and Power Company

[Docket No. ER04-619-000]

Take notice that on March 4, 2004, Virginia Electric and Power Company (d/b/a Dominion Virginia Power) tendered for filing revised rate schedule sheets (Revised Sheets) in its First Revised Rate Schedule FERC No. 109 (Rate Schedule) with Virginia Municipal Electric Association No. 1 (VMEA). Dominion Virginia Power states that, consistent with the terms of the Rate Schedule, the Revised Sheets provide for the advance payment for construction of excess facilities with a voltage-appropriate carrying charge and modify the rates for service. Dominion Virginia Power requests waiver of the Commission's regulations to allow the Revised Sheets to become effective as of April 1, 2004.

Dominion Virginia Power states that copies of the filing were served upon VMEA, the North Carolina Utilities Commission and the Virginia State Corporation Commission.

Comment Date: March 25, 2004.

22. American Transmission Systems, Incorporated

[Docket No. ER04-620-000]

Take notice that on March 4, 2004, American Transmission Systems, Incorporated (ATSI) tendered for filing a revised Generator Interconnection and Operating Agreement (GIOA) to provide a connection of electric generating facilities owned and operated by Troy Energy, LLC to the ATSI Transmission System and for coordination of the operation and maintenance of those facilities with ATSI. ATSI states that the revisions to the GIOA were negotiated in conjunction with settlement discussions in Troy Energy, LLC, Docket No. ER03-1396-000. ATSI has proposed to make the revisions effective on May 1, 2004.

Comment Date: March 25, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-571 Filed 3-15-04; 8:45 am]

BILLING CODE 6717-01-P